DEPARTMENT OF HEALTH AND HUMAN SERVICES

National Institutes of Health

Center for Scientific Review; Amended Notice of Meeting

Notice is hereby given of a change in the meeting of the Macromolecular Structure and Function A Study Section, January 27, 2026, 09:00 a.m. to January 28, 2026, 07:00 p.m., National Institutes of Health, Rockledge II, 6701 Rockledge Drive, Bethesda, MD 20892 which was published in the Federal Register on November 25, 2025, 90 FR 53364 Doc 2025-21044.

This meeting is being amended to change the meeting start time to 10:00 a.m. The meeting is closed to the public.

Dated: December 18, 2025.
Sterlyn H. Gibson,
Program Specialist, Office of Federal Advisory Committee Policy.

[FR Doc. 2025-23690 Filed 12-22-25; 8:45 am]

BILLING CODE 4140-01-P